DEPARTMENT OF COMMERCE

Bureau of Economic Analysis

Proposed Information Collection; Comment Request; Institutional Remittances to Foreign Countries

ACTION: Notice.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before 5 p.m. October 9, 2007.

ADDRESSES: Direct all written comments to Diana Hynek, Departmental Paperwork Clearance Officer, Department of Commerce, Room 6625, 14th and Constitution Avenue, NW., Washington, DC 20230, or via e-mail at dHynek@doc.gov.

FOR FURTHER INFORMATION CONTACT: Michael Mann, Chief, Current Account Services Branch, Balance of Payments Division (BE-58), Bureau of Economic Analysis, U.S. Department of Commerce, Washington, DC 20230; phone: (202) 606-9573; fax: (202) 606-5314; or via e-mail at michael.mann@bea.gov.

SUPPLEMENTARY INFORMATION:

I. Abstract

The Bureau of Economic Analysis (BEA) is responsible for the compilation of the U.S. international transactions accounts (ITA's), which it publishes quarterly in news releases, on its Web site, and in its monthly journal, the Survey of Current Business. These accounts provide a statistical summary of all U.S. international transactions and, as such, are one of the major statistical products of BEA. They are used extensively by both government and private organizations for national and international economic policy formulation and for analytical purposes. The information collected in this survey is used to develop the “private remittances” portion of the ITA's. Without this information, an integral component of the ITA's would be omitted. No other Government agency collects comprehensive data on private institutional remittances of funds to foreign countries.

The survey requests information from U.S. religious, charitable, educational, scientific, and similar organizations on transfers to foreign residents and organizations and their expenditures in foreign countries. The information is collected on a quarterly basis from organizations remitting $1 million or more each year and annually for organizations remitting at least $100,000 but less than $1 million each year. Organizations with remittances of less than $100,000 in the year covered by the report are exempt from reporting. The survey is voluntary.

BEA proposes the following changes to the form and instructions: (1) Increase the reporting threshold from $25,000 to $100,000; (2) request that organizations only report by country if amounts remitted to a particular country exceed $10,000; and

(3) update the list of pre-printed countries on the form and add space for respondents to enter information on remittances to countries that do not appear on the pre-printed list. The overall respondent burden will not change.

II. Method of Collection

Survey forms are mailed to potential respondents in January of each year; respondents expected to file on a quarterly basis are sent multiple copies. Quarterly reports are due 30 days after the close of each calendar or fiscal quarter and annual reports are due 90 days after the close of the calendar or fiscal year. Potential respondents are U.S. religious, charitable, educational, scientific, and similar organizations that voluntarily agree to provide data regarding transfers to foreign residents and organizations and their expenditures in foreign countries.

III. Data

OMB Number: 0608-0002.

Form Number: BE-40.

Type of Review: Regular submission.

Affected Public: Not-for-profit institutions.

Estimated Number of Respondents: 790.

Estimated Time per Response: 1.5 hours annually for respondents filing annually; and 6 hours annually for respondents filing quarterly.

Estimated Total Annual Burden Hours: 2,100.

Estimated Total Annual Cost: $84,000.

Respondent's Obligation: Voluntary.

Legal Authority: Bretton Woods Agreement Act, Section 8, and E.O. 10033, as amended.

IV. Request for Comments

Comments are invited on: (a) Whether the proposed collection of information is necessary for the proper performance of the functions of the agency, including whether the information will have practical utility; (b) the accuracy of the agency's estimate of burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 2, 2007.
Gwellnar Banks,
Management Analyst, Office of the Chief Information Officer.

[FR Doc. E7-15400 Filed 8-7-07; 8:45 am]

BILLING CODE 3510-EA-P